OFFICE OF PERSONNEL MANAGEMENT

Submission for OMB Review; Request for Comments on an Existing Information Collection

[OMB Control No. 3206-0141; OPM Form 2809]

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of an existing information collection. This information collection, “Health Benefits Election Form” (OMB Control No. 3206-0141; OPM Form 2809), is used by annuitants and former spouses to elect, cancel, suspend, or change health benefits enrollment during periods other than open season.

There are approximately 30,000 changes to health benefits coverage per year. Of these, 20,000 are submitted on OPM Form 2809 and 10,000 verbally or in written correspondence. Each form takes approximately 45 minutes to complete; data collection by telephone or mail takes approximately 10 minutes. The annual burden for the form is 15,000 hours; the burden not using the form is 1,667 hours. The total burden is 16,667 hours.

For copies of this proposal, contact Cyrus S. Benson on (202) 606-4808, FAX (202) 606-0910 or by E-mail to Cyrus.Benson@opm.gov. Please include a mailing address with your request.

DATES: Comments on this proposal should be received within 30 calendar days from the date of this publication.

ADDRESSES: Send or deliver comments to—

James K. Freiert,

Deputy Assistant Director,

Retirement Services Program,

Center for Retirement and Insurance Services,

U.S. Office of Personnel Management,

1900 E Street, NW., Room 3305,

Washington, DC 20415-3500; and

Alexander Hunt,

OPM Desk Officer,

Office of Information & Regulatory Affairs,

Office of Management and Budget,

New Executive Office Building,

725 17th Street, NW.,

Room 10235,

Washington, DC 20503.

For Information Regarding Administrative Coordination Contact:Cyrus S. Benson, Team Leader, Publications Team, RIS Support Services/Support Group, U.S. Office of Personnel Management, 1900 E Street, NW Room 4H28, Washington, DC 20415, (202) 606-0623.

U.S. Office of Personnel Management.
Kathie Ann Whipple,
Acting Director.

[FR Doc. E9-7047 Filed 3-27-09; 8:45 am]

BILLING CODE 6325-38-P